DEPARTMENT OF DEFENSE

Office of the Secretary

Threat Reduction Advisory Committee; Notice of Federal Advisory Committee Meeting

AGENCY: Under Secretary of Defense for Acquisitions and Sustainment, Department of Defense.

ACTION: Notice of Federal Advisory Committee meeting.

SUMMARY: The Department of Defense (DoD) is publishing this notice to announce that the following Federal Advisory Committee meeting of the Threat Reduction Advisory Committee (TRAC) will take place.

DATES: Monday, August 26, 2019, from 8:00 a.m. to 4:30 p.m.

ADDRESSES: The Pentagon, Room 3A912A, Washington, DC 20301-1400.

FOR FURTHER INFORMATION CONTACT: Stephen Polchek, (571) 616-6520 (Voice), 703-767-4206 (Facsimile), stephen.j.polchek.civ@mail.mil (Email). Mailing address is Defense Threat Reduction Agency (DTRA) VDir-PP-STO, 8725 John J. Kingman Road, MS 6201, Fort Belvoir, VA 22060-6201. Website: http://www.dtra.mil/Home/TRAC.aspx. The most up-to-date changes to the meeting agenda can be found on the website.

SUPPLEMENTARY INFORMATION: Due to circumstances beyond the control of the Department of Defense (DoD) and the Designated Federal Officer, the Threat Reduction Advisory Committee was unable to provide public notification required by 41 CFR 102-3.150(a) concerning the August 26, 2019 meeting of the Threat Reduction Advisory Committee. Accordingly, the Advisory Committee Management Officer for the Department of Defense, pursuant to 41 CFR 102-3.150(b), waives the 15-calendar day notification requirement. This meeting is being held under the provisions of the Federal Advisory Committee Act (FACA) (5 U.S.C., App.), the Government in the Sunshine Act (5 U.S.C. 552b), and 41 CFR 102-3.140 and 102-3.150.

Purpose of the Meeting: The TRAC will conduct SECRET and higher-level discussions and deliberations on the continued viability of the Chemical Weapons Convention and Biological Weapons Convention, in as far as current international agreements on chemical and biological weapons and the implementation and enforcement of those treaties. Also the consideration of analytic and data-driven frameworks for the evaluation of the current strategic nuclear environment and the assessment of emergent challenges to the U.S. ability to deter threats from peer and near-peer competitors; and providing independent, executive-level advice and recommendations in support of Special Operations Command (SOCOM) efforts as the DoD coordinating authority for countering weapons of mass destruction.

Agenda: Threat Reduction Advisory Committee Plenary Location: Pentagon, Room 3A912A—All discussions will be conducted at or above the Secret classification level.—August 26, 2019, Designated Federal Officer Remarks from Mr. Polchek followed by opening remarks from the Chair, Ambassador Lehman on how he expects the deliberations and recommendation process to occur. The TRAC will then hold classified discussions and final deliberations on all Subcommittee work. After a short lunch break, the TRAC will resume discussion and final deliberations on all Subcommittee recommendations. The TRAC chair and subcommittee leads will then brief their classified recommendations to Under Secretary of Defense for Acquisition and Sustainment (USD (A&S)) Ms. Ellen M. Lord. After providing their recommendations, Ms. Lord will provide instructions for future studies. After USD Lord departs, the TRAC will begin classified discussion of Ms. Lord's instructions and comments. Following the discussions, AMB Lehman will provide a summary of the day, and adjourn the meeting.

Meeting Accessibility: Pursuant to section 10(d) of the FACA, 5 U.S.C. 552b(c), and 41 CFR 102-3.155, the DoD has determined that the meeting shall be closed to the public. The Under Secretary of Defense for Acquisition and Sustainment, in consultation with the DoD FACA Attorney, has determined in writing that all sessions of this meeting are required to be closed to the public because the discussions will contain classified information and matters covered by 5 U.S.C. 552b(c)(1). Such classified matters are inextricably intertwined with the unclassified material and cannot reasonably be segregated into separate discussions without disclosing secret-level or higher material.

Written Statements: Pursuant to section 10(a)(3) of FACA and 41 CFR 102-3.105(j) and 102-3.140, the public or interested organizations may submit written statements to the membership of the TRAC at any time or in response to the stated agenda of a planned meeting. Written statements should be submitted to the TRAC's Designated Federal Officer. The Designated Federal Officer's contact information is listed in this notice, or it can be obtained from the General Services Administration's FACA Database: http://www.facadatabase.gov/committee/committee.aspx?cid=1663&aid=41. Written statements that do not pertain to a scheduled meeting of the TRAC may be submitted at any time. However, if individual comments pertain to a specific topic being discussed at a planned meeting, then these statements must be submitted no later than five business days prior to the meeting in question. The Designated Federal Officer will review all submitted written statements and provide copies to all TRAC members.

Dated: August 15, 2019.
Aaron T. Siegel,
Alternate OSD Federal Register Liaison Officer, Department of Defense.

[FR Doc. 2019-17928 Filed 8-19-19; 8:45 am]

BILLING CODE 5001-06-P